DEPARTMENT OF COMMERCE

International Trade Administration

[A-570-863]

Honey From the People's Republic of China: Extension of Time Limit for the Final Results for New Shipper Review

AGENCY: Import Administration, International Trade Administration, Department of Commerce.

DATES: Effective Date: October 6, 2010.

FOR FURTHER INFORMATION CONTACT: Josh Startup, AD/CVD Operations, Office 9, Import Administration, International Trade Administration, U.S. Department of Commerce, 14th Street and Constitution Avenue, NW., Washington, DC 20230; telephone: (202) 482-5260.

Background

On February 4, 2010, the Department of Commerce (“Department”) initiated this new shipper review (“NSR”) of the antidumping duty order on honey from the People's Republic of China (“PRC”), covering the period December 1, 2008, through November 30, 2009. See Honey from the People's Republic of China: Initiation of New Shipper Antidumping Duty Reviews, 75 FR 5764 (February 4, 2010). On February 12, 2010, the Department exercised its discretion to toll the deadlines for all Import Administration cases by seven calendar days due to the February 5, through February 12, 2010, Federal Government closure. See “Memorandum to the Record from Ronald Lorentzen, DAS for Import Administration, regarding `Tolling of Administrative Deadlines as a Result of the Government Closure During the Recent Snowstorm,' ” dated February 12, 2010. On July 7, 2010, the Department exercised its discretion to extend the deadline for preliminary results of this NSR by 90 days, making the preliminary results due no later than November 2, 2010. See Honey From the People's Republic of China: Extension of Time Limit for the Preliminary Results for New Shipper Review, 75 FR 38980 (July 7, 2010). On September 10, 2010, the Department published the preliminary results of this NSR. See Honey from the People's Republic of China: Preliminary Intent to Rescind New Shipper Reviews, 75 FR 55307 (September 10, 2010). As a result, the final results of this NSR are currently due no later than December 1, 2010.

Extension of Time Limit for the Final Results

Section 751(a)(2)(B)(iv) of the Tariff Act of 1930, as amended (“Act”), and 19 CFR 351.214(i)(1) require the Department to issue the preliminary results of a NSR within 180 days after the date on which the NSR was initiated, and the final results of a review within 90 days after the date on which the preliminary results were issued. The Department may, however, extend the deadline for completion of the final results of a NSR by 60 days if it determines that the case is extraordinarily complicated. See section 751(a)(2)(B)(iv) of the Act, and 19 CFR 351.214(i)(2).

The Department has determined that the review is extraordinarily complicated because of issues related to surrogate valuation and the Department will need additional time to review the supplemental questionnaire responses received after the preliminary results. Therefore, the Department has determined that the final results of this NSR cannot be completed within the statutory time limit of 90 days. Accordingly, the Department is extending the time limit for the completion of the final results by 60 days until January 31, 2011, in accordance with section 751(a)(2)(B)(iv) of the Act and 19 CFR 351.214(i)(2).¹

¹ Department practice dictates that where a deadline falls on a weekend, the appropriate deadline is the next business day. See Notice of Clarification: Application of “Next Business Day” Rule for Administrative Determination Deadlines Pursuant to the Tariff Act of 1930, as Amended, 70 FR 24533 (May 10, 2005).

This notice is issued and published in accordance with section 751(a)(1) of the Act and 19 CFR 351.214(i)(2).

Dated: September 30, 2010.
Susan H. Kuhbach,
Acting Deputy Assistant Secretary for Antidumping and Countervailing Duty Operations.

[FR Doc. 2010-25235 Filed 10-5-10; 8:45 am]

BILLING CODE 3510-DS-P